DEPARTMENT OF HOMELAND SECURITY

Coast Guard

[Docket No. USCG-2025-0097]

Exemption Permit for the M/V SUPPLIER or M/V TRANSPORTER

AGENCY: Coast Guard, DHS.

ACTION: Notification of issuance of Alaska cargo exemption permit.

SUMMARY: Commander, Seventeenth Coast Guard District, has issued a permit exempting two vessels from requirements in the Code of Federal Regulations when transporting cargo, including bulk fuel, within Alaska. Permits temporarily waive vessel inspection requirements to facilitate the movement of cargo, including bulk fuel, to remote Alaskan sites when inspected cargo vessels are not reasonably available. Sundog Charters Inc., the operator of M/V SUPPLIER (O.N. 1205481) and M/V TRANSPORTER (O.N. 1321256), received a single permit allowing one of the vessels to conduct on-going bulk fuel deliveries of up to a total of 8,000 gallons of heating oil, diesel, gasoline and aviation gasoline carried in approved portable tanks on deck, between Kodiak and remote sites around the island. The permit expires on 06 March 2026. This notification of issuance of a permit promotes the Coast Guard's marine safety mission and the flow of essential cargo to remote sites.

DATES: The waiver permit was issued on 6 March 2025; it expires on 6 March 2026.

FOR FURTHER INFORMATION CONTACT: For information or questions about this notice call or email Commander Douglas Salik, and District Seventeen, Prevention, Inspections and Investigations, U.S. Coast Guard; (907) 463-2821, Douglas.Salik@uscg.mil.

SUPPLEMENTARY INFORMATION: Federal law ¹ formally recognizes the remoteness of Alaska, limited shipping options, underdeveloped port facilities, and limited oil spill response capability. Special authority to issue waivers allows for the delivery of essential goods, bulk fuel, and timely emergency assistance to areas of Alaska underserved by shippers or remote customers burdened with unique seasonal shipping conditions. 46 U.S.C. 3302(i) allows exemption from 46 CFR requirements for voyages within Alaska. A permit may be issued for a specific voyage or for not more than one year. An issued permit will stipulate manning, along with any relevant requirements or restrictions for requested operations. The authority to grant permits for such exemption to qualified vessels is delegated in 33 CFR 1.01-50 to the Commander, Seventeenth Coast Guard District. Permitting authority has been further delegated; emergency, single trip permits may be granted by the local Officer in Charge of Marine Inspection, while an extended permit lasting up to one year may be issued by the Chief of Prevention for District Seventeen.

¹ 46 U.S.C. 3302, Exemptions from inspection. Sections (c), (d) & (i), all have Alaska specific application.

Permits may be granted if all the following conditions are met:

i. The vessel is not more than 300 Gross Registered Tonnage;

ii. The vessel is in an acceptable condition, that does not pose immediate threat to safety of life or environment; and

iii. The vessel was operating in Alaska as of June 1, 1976 or is a replacement for such a vessel if the vessel being replaced is no longer in service.

Once issued, use of the permits is subject to the following conditions:

i. The permit may only be used when an inspected vessel that could carry the cargo is not reasonably available, or the cargo cannot be brought on overland routes. In a situation declared to be an emergency, a permit may be used to transport cargo without delay.

ii. If a vessel issued a permit creates an immediate threat to the safety of life or the environment or is operated in a manner inconsistent with the terms of the permit or the requirements, the permit may be revoked.

iii. If a vessel violates conditions on the permit, the responsible party may be liable to the United States Government for a civil penalty of not more than $1,000.

Having considered the conditions listed above, the Chief of Prevention for the Seventeenth Coast Guard District has issued a permit to Sundog Charters Inc. for the M/V SUPPLIER (O.N. 1205481) and M/V TRANSPORTER (O.N. 1321256), both 61.5 foot long landing craft operating out of Kodiak, Alaska. A single vessel may use the permit at a time. The permit authorizes on-going bulk fuel carriage of up to a total of 8,000 gallons of heating oil, diesel, gasoline and aviation gasoline carried in approved portable tanks on deck. The permit vessels may operate only between Kodiak harbor and the remote communities of: Karluk, Ouzinkie, Larsen Bay, other remote sites not on the road-system in the Kodiak archipelago, and Katmai Wilderness Lodge in Kukak Bay on the Alaskan mainland. North Pacific Fuels and Petro Marine Services, the marine fuel terminals and fuel barge operators in Kodiak, do not conduct small volume deliveries to these locations and Ouzinkie only receives one fuel barge a year for use by the local school. The permit allows up to 5,000 gallons of cargo to be carried in existing non-specification tanks, with the stipulation that Sundog Charters replace all existing portable tanks with approved bulk packaging per 49 CFR 171, 172 and 173; future use of such tanks is not permitted.

This notice is issued under authority of 46 U.S.C. 3302(i) and 33 CFR 1.01-50.

D. Salik,
Commander, U.S. Coast Guard, Acting Chief of Prevention, Seventeenth Coast Guard District.

[FR Doc. 2025-10167 Filed 6-3-25; 8:45 am]

BILLING CODE 9110-04-P